DEPARTMENT OF DEFENSE

Office of the Secretary

[Docket ID: DOD-2019-OS-0104]

Proposed Collection; Comment Request

AGENCY: The Office of the Under Secretary of Defense for Research and Engineering, DoD.

ACTION: Information collection notice.

SUMMARY: In compliance with the Paperwork Reduction Act of 1995, and as part of a Federal Government-wide effort to streamline the process to seek feedback from the public on service delivery, the Defense Technical Information Center announces a proposed generic information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 29, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Assistant Secretary of Defense for Research and Engineering Information Management Control Officer, 3030 Defense Pentagon RM 3C152, Washington, DC 20301, Mr. Steve Lippi or call 703-614-4161.

SUPPLEMENTARY INFORMATION: Title; Associated Form; and OMB Number: Customer Satisfaction Surveys Generic Clearance. OMB Control Number 0704-0403.

Needs and Uses: The information collection requirement is necessary to assess the level of service the DTIC provides to its current customers. The surveys will provide information on the level of overall customer satisfaction as well as on customer satisfaction with several attributes of service that impact the level of overall satisfaction. These customer satisfaction surveys are required to implement Executive Order 12862, “Setting Customer Service Standards.” Respondents are DTIC registered users who are components of the DoD, military services, other Federal Government Agencies, U.S. Government contractors, and universities involved in federally funded research. The information obtained by these surveys will be used to assist agency senior management in determining agency business policies and processes that should be selected for examination, modification, and reengineering from the customer's perspective. These surveys will also provide statistical and demographic basis for the design of follow-on surveys. Future surveys will be used to assist monitoring of changes in the level of customer satisfaction overtime.

Current Actions: Processing Extension as Generic.

Type of Review: Extension.

Affected Public: Business or other for-profit; individuals or households; Federal Government.

Estimated Number of Annual Respondents: 4,600.

Average Expected Annual Number of Activities: 8.

Below we provide projected average estimates for the next three years:

Average Number Of Respondents per Activity: 575.

Responses per Respondent: 1.

Annual Responses: 6,400.

Average Burden per Response: 7.875 minutes.

Annual Burden Hours: 1,273.

Frequency: On occasion.

Dated: August 26, 2019.
Shelly E. Finke,
Alternate OSD Federal Register, Liaison Officer, Department of Defense.

[FR Doc. 2019-18754 Filed 8-29-19; 8:45 am]

BILLING CODE 5001-06-P